DEPARTMENT OF THE INTERIOR

National Park Service

[NPS-WASO-NAGPRA-NPS0036438; PPWOCRADN0-PCU00RP14.R50000]

Notice of Inventory Completion: The Fort Ticonderoga Association, Ticonderoga, NY

AGENCY: National Park Service, Interior.

ACTION: Notice.

SUMMARY: In accordance with the Native American Graves Protection and Repatriation Act (NAGPRA), The Fort Ticonderoga Association has completed an inventory of human remains and associated funerary objects and has determined that there is a cultural affiliation between the human remains and associated funerary objects and Indian Tribes or Native Hawaiian organizations in this notice. The human remains and associated funerary objects were removed from Addison County, VT.

DATES: Repatriation of the human remains and associated funerary objects in this notice may occur on or after September 22, 2023.

ADDRESSES: Margaret Staudter, The Fort Ticonderoga Association, 30 Fort Ti Rd, Ticonderoga, NY 12883, telephone (518) 585-1015, email mstaudter@fort-ticonderoga.org.

SUPPLEMENTARY INFORMATION: This notice is published as part of the National Park Service's administrative responsibilities under NAGPRA. The determinations in this notice are the sole responsibility of The Fort Ticonderoga Association. The National Park Service is not responsible for the determinations in this notice. Additional information on the determinations in this notice, including the results of consultation, can be found in the inventory or related records held by The Fort Ticonderoga Association.

Description

Human remains representing, at minimum, one individual were removed from the Chipman's Point site (VT-AD-004) in Addison County, VT. In July of 1938, archeologist John Bailey and the Champlain Valley Archaeological Society led an excavation of a rock shelter at Chipman's Point. The human remains (FT HR-02), and associated funerary objects removed during the excavations were brought to Fort Ticonderoga. The 24 associated funerary objects are one abrader, one abrader/hammerstone, one lot consisting of antler fragments, one modified antler, two anvil/hammerstones, one lot consisting of stone bifaces, one lot consisting of modified bones, one lot consisting of unmodified bones, one chisel, one lot consisting of core/hammerstone fragments, one lot consisting of stone debitage, one dog skeleton, one lot consisting of groundstones, one lot consisting of hammerstones, one hematite paint stone, one nut, one lot consisting of projectile points, one lot consisting of scrapers, one lot consisting of shells, one lot consisting of sherds, one stone, one lot consisting of faunal teeth, and one whetstone.

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: archeological, geographical, historical, and expert opinion.

Determinations

Pursuant to NAGPRA and its implementing regulations, and after consultation with the appropriate Indian Tribes and Native Hawaiian organizations, The Fort Ticonderoga Association has determined that:

• The human remains described in this notice represent the physical remains of one individual of Native American ancestry.

• The 24 objects described in this notice are reasonably believed to have been placed with or near individual human remains at the time of death or later as part of the death rite or ceremony.

• There is a relationship of shared group identity that can be reasonably traced between the human remains and associated funerary objects described in this notice and the Cayuga Nation; Oneida Indian Nation; Oneida Nation; Onondaga Nation; Saint Regis Mohawk Tribe; Seneca Nation of Indians; Seneca-Cayuga Nation; Stockbridge Munsee Community, Wisconsin; Tonawanda Band of Seneca; and the Tuscarora Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 22, 2023. If competing requests for repatriation are received, the Fort Ticonderoga Association must determine the most appropriate requestor prior to repatriation. Requests for joint repatriation of the human remains and associated funerary objects are considered a single request and not competing requests. The Fort Ticonderoga Association is responsible for sending a copy of this notice to the Indian Tribes identified in this notice.

Authority: Native American Graves Protection and Repatriation Act, 25 U.S.C. 3003, and the implementing regulations, 43 CFR 10.9, 10.10, and 10.14.

Dated: August 16, 2023.
Melanie O'Brien,
Manager, National NAGPRA Program.

[FR Doc. 2023-18136 Filed 8-22-23; 8:45 am]

BILLING CODE 4312-52-P